DEPARTMENT OF TRANSPORTATION

Federal Aviation Administration

14 CFR Part 39

[Docket No. FAA-2005-22486; Directorate Identifier 2004-NM-219-AD; Amendment 39-14287; AD 2005-19-22]

RIN 2120-AA64

Airworthiness Directives; Airbus Model A330-322, -341, and -342 Airplanes; and Airbus Model A340-200 and -300 Series Airplanes

AGENCY: Federal Aviation Administration (FAA), Department of Transportation (DOT).

ACTION: Final rule; request for comments.

SUMMARY: The FAA is adopting a new airworthiness directive (AD) for certain Airbus Model A330-322, -341, and -342 airplanes, and Model A340-200 and -300 series airplanes. This AD requires modifying the left and right ram air outlets of the two air conditioning packs. The modification includes replacing the old air outlet assembly with a new air outlet assembly, and modifying the web. This AD results from a report of fatigue cracks that initiated in the duct structure of the ram air outlet, which is adjacent to the hydraulics compartment. We are issuing this AD to prevent fatigue cracks in the duct structure of the ram air outlet, which could lead to hot air damage and consequent loss of function of the hydraulics systems.

DATES: Effective October 7, 2005.

The Director of the Federal Register approved the incorporation by reference of certain publications listed in the AD as of October 7, 2005.

We must receive comments on this AD by November 21, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Discussion

The Direction Générale de l'Aviation Civile (DGAC), which is the airworthiness authority for France, notified us that an unsafe condition may exist for certain Airbus Model A330-322, -341, and -342 airplanes, and Model A340-200 and -300 series airplanes. The DGAC advises that fatigue cracks have been found that initiated in the duct structure of the ram air outlet, which is adjacent to the hydraulics compartment. These fatigue cracks were found on airplanes that had been modified with an “adaptation solution” that was intended to prevent cracks and provide better thermal insulation. However, analyses showed that the adaptation solution did not prevent cracks that initiate after the 12,000 flight-cycle threshold. Cracks in the duct structure could propagate, and certain rivet heads could shear from the inside. Either condition could cause the air outlet to rupture and lead to hot air being blown into the hydraulics bay. This condition, if not corrected, could result in hot air damage and consequent loss of function of the hydraulics systems.

Relevant Service Information

Airbus has issued the service bulletins listed in the following table.

Airbus Service Bulletins
Airbus service bulletin— | Revision | Dated | For model—
A330-53-3132 | 02 | April 26, 2004 | A330-322, -341, and -342 airplanes.
A340-53-4139 | 02 | April 26, 2004 | A340-200 and -300 series airplanes

The service bulletins describe procedures for modifying the left and right ram air outlets of the two air conditioning packs to provide improved thermal insulation and fatigue resistance. The modification includes replacing the old air outlet assembly with a new air outlet assembly, and modifying the web. Accomplishing the actions specified in the service information is intended to adequately address the unsafe condition. The DGAC mandated the service information and issued French airworthiness directives F-2004-050 and F-2004-051, both dated April 14, 2004, to ensure the continued airworthiness of these airplanes in France.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent fatigue cracks in the duct structure of the ram air outlet, which could lead to hot air damage and consequent loss of function of the hydraulics systems. This AD requires accomplishing the actions specified in the service information described previously.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Parts cost | Cost per airplane
Modification | 32 | $65 | $55,710 | $57,790

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to the address listed under the ADDRESSES section. Include “Docket No. FAA-2005-22486; Directorate Identifier 2004-NM-219-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-19-22 Airbus: Amendment 39-14287. Docket No. FAA-2005-22486; Directorate Identifier 2004-NM-219-AD.

Effective Date

(a) This AD becomes effective October 7, 2005.

Affected ADs

(b) None.

Applicability: (c) This AD applies to Airbus Model A330-322, -341, and -342 airplanes; and Model A340-211, -212, -213, -311, -312, and -313 airplanes; certificated in any category; as identified in Airbus Service Bulletin A330-53-3132, Revision 02, dated April 26, 2004, and Airbus Service Bulletin A340-53-4139, Revision 02, dated April 26, 2004, as applicable.

Unsafe Condition

(d) This AD results from a report of fatigue cracks that initiated in the duct structure of the ram air outlet, which is adjacent to the hydraulics compartment. The FAA is issuing this AD to prevent fatigue cracks in the duct structure of the ram air outlet, which could lead to hot air damage and consequent loss of function of the hydraulics systems.

Compliance: (e) You are responsible for having the actions required by this AD performed within the compliance times specified, unless the actions have already been done.

Modification

(f) Before the airplane accumulates 12,000 total flight cycles, or within 60 days after the effective date of this AD, whichever occurs later: Modify the ram air outlet ducts of the two air conditioning packs in accordance with the applicable service bulletin in Table 1 of this AD.

Table 1.—Airbus Service Bulletins
Model | Airbus service bulletin | Revision | Date
A330-322, -341, and -342 airplanes | A330-53-3132 | 02 | April 26, 2004.
A340-211, -212, -213, -311, -312, and -313 airplanes | A340-53-4139 | 02 | April 26, 2004.

Actions Accomplished in Accordance With Previous Issues of Service Bulletins

(g) Actions accomplished in accordance with the service bulletins listed in Table 2 of this AD are acceptable for compliance with the corresponding action in this AD.

Table 2.—Previous Issues of Service Bulletins
Airbus service bulletin | Revision | Date
A330-53-3132 | 01 | December 8, 2003.
A340-53-4139 | Original | July 25, 2003.
A340-53-4139 | 01 | December 8, 2003.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directives F-2004-050 and F2004-051, both dated April 14, 2004, also address the subject of this AD.

Material Incorporated by Reference

(j) You must use Airbus Service Bulletin A330-53-3132, Revision 02, dated April 26, 2004; and Airbus Service Bulletin A340-53-4139, Revision 02, dated April 26, 2004; as applicable; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 13, 2005.
Kalene C. Yanamura,
Acting Manager, Transport Airplane Directorate, Aircraft Certification Service.

[FR Doc. 05-18781 Filed 9-21-05; 8:45 am]

BILLING CODE 4910-13-P